CONSUMER PRODUCT SAFETY COMMISSION

Commission Agenda, Priorities and Strategic Plan; Notice of Hearing

AGENCY: Consumer Product Safety Commission.

ACTION: Notice of public hearing.

SUMMARY: The Consumer Product Safety Commission (Commission) will conduct a public hearing to receive views from all interested parties about its agenda and priorities for Commission attention during fiscal year 2011, which begins October 1, 2010, and about its current strategic plan. Participation by members of the public is invited. Written comments and oral presentations concerning the Commission's agenda and priorities for fiscal year 2011 and the strategic plan will become part of the public record.

DATES: The hearing will begin at 10 a.m. on August 25, 2009. Requests to make oral presentations and the written text of any oral presentations must be received by the Office of the Secretary not later than 5 p.m. Eastern Standard Time (EST) on August 18, 2009.

ADDRESSES: The hearing will be in the Hearing Room, 4th Floor of the Bethesda Towers Building, 4330 East West Highway, Bethesda, Maryland 20814. Requests to make oral presentations and texts of oral presentations should be captioned “Agenda, Priorities and Strategic Plan FY 2011” and sent by electronic mail (“e-mail”) to cpsc-os@cpsc.gov, or mailed or delivered to the Office of the Secretary, Consumer Product Safety Commission, 4330 East West Highway, Bethesda, Maryland 20814, no later than 5 p.m. EST on August 18, 2009.

FOR FURTHER INFORMATION CONTACT: For information about the hearing or to request an opportunity to make an oral presentation, please send an e-mail, call, or write Todd A. Stevenson, Office of the Secretary, Consumer Product Safety Commission, 4330 East West Highway, Bethesda, Maryland 20814; e-mail cpsc-os@cpsc.gov; telephone (301) 504-7923; facsimile (301) 504-0127. An electronic copy of the CPSC budget request for fiscal year 2010 can be found at http://www.cpsc.gov/cpscpub/pubs/reports/2010plan.pdf. An electronic copy of the annotated 2003 Strategic Plan can be found at http://www.cpsc.gov/cpscpub/ pubs/reports/2003strategicAnnotated.pdf.

SUPPLEMENTARY INFORMATION: Section 4(j) of the Consumer Product Safety Act (CPSA) (15 U.S.C. 2053(j)) requires the Commission to establish an agenda for action under the laws it administers and, to the extent feasible, to select priorities for action at least 30 days before the beginning of each fiscal year. Section 4(j) of the CPSA provides further that before establishing its agenda and priorities, the Commission conduct a public hearing and provide an opportunity for the submission of comments. In addition, section 306(d) of the Government Performance and Results Act (GPRA) (5 U.S.C. 306(d)) requires the Commission to seek comments from interested parties as part of the process of revising the current CPSC strategic plan.

On June 9, 2009, the Commission issued a notice in the Federal Register (74 FR 27290) requesting comments on its agenda, priorities, and strategic plan, with written comments due on June 26, 2009. The Commission stated that, if the analysis of any issues raised in the comments would benefit from a public hearing, it would hold a hearing. The Commission received several written comments. In addition, some commenters requested an oral hearing. Accordingly, the Commission will conduct a public hearing on August 25, 2009, to hear oral comments from these requesters or other interested parties concerning its current strategic plan, and agenda and priorities for fiscal year 2011.

Persons who desire to make oral presentations at the hearing on August 25, 2009, should send an e-mail, call, or write Todd A. Stevenson, Office of the Secretary, Consumer Product Safety Commission, 4330 East West Highway, Bethesda, Maryland 20814, e-mail cpsc-os@cpsc.gov, telephone (301) 504-7923, facsimile (301) 504-0127 not later than 5 p.m. EST on August 18, 2009. Presentations should be limited to approximately ten minutes.

Persons desiring to make presentations must submit the text of their presentations to the Office of the Secretary not later than 5 p.m. EST on August 18, 2009. The Commission reserves the right to impose further time limitations on all presentations and further restrictions to avoid duplication of presentations. The hearing will begin at 10 a.m. on August 25, 2009, and will conclude the same day.

Dated: August 4, 2009.
Todd A. Stevenson,
Secretary, Consumer Product Safety Commission.

[FR Doc. E9-19114 Filed 8-10-09; 8:45 am]

BILLING CODE 6355-01-P